DEPARTMENT OF HOMELAND SECURITY

Federal Emergency Management Agency

[Docket ID FEMA-2024-0003]

Assistance to Firefighters Grant Program

AGENCY: Federal Emergency Management Agency (FEMA), Department of Homeland Security (DHS).

ACTION: Notice; correction.

SUMMARY: On January 19, 2024, FEMA published in the Federal Register a notice describing the fiscal year (FY) 2023 Assistance to Firefighters Grant (AFG) program application process, deadlines, and award selection criteria pursuant to the Federal Fire Prevention and Control Act of 1974, as amended. This notice explained the differences, if any, between these guidelines and those recommended by representatives of the national fire service leadership during the annual meeting of the Criteria Development Panel (CDP), which was held July 18-19, 2023. This notice also announced the application period for the FY 2023 AFG Program, which is Jan. 29, 2024-March 8, 2024, and was also announced on the FEMA AFG Program website at https://www.fema.gov/grants/preparedness/firefighters, as well as at https://www.grants.gov. This notice provides a correction to this information to be used in lieu of the information published January 19, 2024.

DATES: This correction is effective February 12, 2024.

ADDRESSES: DHS/FEMA/GPD, Assistance to Firefighters Grants Branch, 400 C St. SW, 3N, FEMA Headquarters, Washington, DC 20472-3635.

FOR FURTHER INFORMATION CONTACT: Paul Parsons, Chief, Assistance to Firefighters Grants Branch, 1-866-274-0960 or FireGrants@fema.dhs.gov.

SUPPLEMENTARY INFORMATION:

Correction

In the Federal Register of January 19, 2024, in FR Doc. 2024-00998, on page 3677, in the third column, in the bulleted paragraph entitled “Micro grants,” under the section “Congressional Appropriations,” “$50,000” is corrected to read “$75,000” in both instances where mentioned.

Deanne B. Criswell,
Administrator, Federal Emergency Management Agency.

[FR Doc. 2024-02839 Filed 2-9-24; 8:45 am]

BILLING CODE 9111-64-P